DEPARTMENT OF TRANSPORTATION

Federal Aviation Administration

[Docket No. FAA-2023-2111; Summary Notice No. 2024-01]

Petition for Exemption; Summary of Petition Received; Software Development Alternatives, Inc.

AGENCY: Federal Aviation Administration (FAA), DOT.

ACTION: Notice of petition for exemption received.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before January 29, 2024.

ADDRESSES: Send comments identified by docket number FAA-2023-2111 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Michael H. Harrison, AIR-646, Federal Aviation Administration, phone 206-231-3368, email Michael.Harrison@faa.gov.

This notice is published pursuant to 14 CFR 11.85.

Issued in Washington, DC, on January 2, 2024.
Daniel J. Commins,
Manager, Integration and Performance.

Petition for Exemption

Docket No.: FAA-2023-2111.

Petitioner: Software Development Alternatives, Inc.

Section(s) of 14 CFR Affected: § 21.603(a)(1).

Description of Relief Sought: Software Development Alternatives, Inc. (SDA) is seeking relief from 14 Code of Federal Regulations, § 21.603(a)(1), which requires in pertinent part, an applicant for a technical standard order (TSO) authorization must apply in the form and manner prescribed by the FAA and that the applicant must include a statement of conformance certifying that the applicant has met the requirements of this subpart and that the article concerned meets the applicable TSOs that were effective on the date of application for that article. Specifically, SDA is proposing the FAA grant an exemption to allow a TSOA submittal for the article to be evaluated against TSO-C160 and TSO-C113, which were effective when the article was approved for manufacture by the FAA on March 7th, 2012.

[FR Doc. 2024-00191 Filed 1-8-24; 8:45 am]

BILLING CODE 4910-13-P